DEFENSE NUCLEAR FACILITIES SAFETY BOARD

Extension of Hearing Record Closure Date

AGENCY: Defense Nuclear Facilities Safety Board.

ACTION: Extension of hearing record closure date.

SUMMARY: The Defense Nuclear Facilities Safety Board (Board) published a document in the Federal Register on January 22, 2013, (78 FR 4393), as amended, February 19, 2013, (78 FR 11632). The publication concerned notice of a hearing and meeting on March 14, 2013, regarding safety culture, emergency preparedness, and safety issues at the Pantex Plant. The Board stated in the January 22, 2013, hearing notice that the hearing record would remain open until April 15, 2013, for the receipt of additional materials.

Extension of Time: The Board now extends the period of time for which the hearing record will remain open to June 15, 2013, to further accommodate, among other things, submission of answers to questions taken for the record during the course of the public hearing.

Contact Person for Further Information: Marcelyn Atwood, General Manager, Defense Nuclear Facilities Safety Board, 625 Indiana Avenue NW., Suite 700, Washington, DC 20004-2901, (800) 788-4016. This is a toll-free number.

Dated: April 2, 2013.
Peter S. Winokur,
Chairman.

[FR Doc. 2013-07969 Filed 4-4-13; 8:45 am]

BILLING CODE 3670-01-P